DEPARTMENT OF LABOR

Office of the Secretary

Submission for OMB Review; Comment Request

March 6, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Employee Benefits Security Administration (EBSA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title: Class Exemption 77-4 for Certain Transactions Between Investment Companies and Employee Benefit Plans.

OMB Number: 1210-0049.

Affected Public: Private Sector: Business or other for-profits.

Total Estimated Number of Respondents: 900.

Total Estimated Annual Burden Hours: 10,301.

Total Estimated Annual Costs Burden: $167,000.

Description: Prohibited Transaction Class Exemption 77-4 permits an employee benefit plan to purchase and sell shares of an open-end investment company (mutual fund) when a fiduciary with respect to the plan is also the investment advisor for the mutual fund. Without the exemption, certain aspects of these transactions might be prohibited by sections 406 and 407(a) of the Employee Retirement Income Security Act of 1974. The third-party disclosure requirements contained in the Exemption are designed to help protect the interests of plan participants and beneficiaries from potential abuse when a fiduciary exercises the Exemption. For additional information, see related notice published at 72 FR 72762 on December 21, 2007.

Agency: Employee Benefits Security Administration.

Type of Review: Extension without change of currently approved collection.

Title: Class Exemption 81-8 for Investment of Plan Assets in Certain Types of Short-Term Investments.

OMB Number: 1210-0061.

Affected Public: Private Sector: Business or other for-profits.

Total Estimated Number of Respondents: 50,000.

Total Estimated Annual Burden Hours: 41,700.

Total Estimated Annual Costs Burden: $102,500.

Description: Prohibited Transaction Class Exemption 81-8 permits the investment of plan assets that involve the purchase or other acquisition, holding, sale, exchange or redemption by or on behalf of an employee benefit plan of certain types of short-term investments. Without the exemption, certain aspects of these transactions might be prohibited by section 406 of the Employee Retirement Income Security Act of 1974. The third-party disclosure and recordkeeping requirements contained in the Exemption are designed to help protect the interests of plan participants and beneficiaries from potential abuse when a fiduciary exercises the Exemption. For additional information, see related notice published at 72 FR 72763 on December 21, 2007.

Agency: Employee Benefits Security Administration.

Type of Review: Extension without change of currently approved collection.

Title: Delinquent Filer Voluntary Compliance Program.

OMB Number: 1210-0089.

Affected Public: Private Sector: Business or other for-profits.

Total Estimated Number of Respondents: 15,000.

Total Estimated Annual Burden Hours: 750.

Total Estimated Annual Costs Burden: $608,250.

Description: The Delinquent Filer Voluntary Compliance Program is intended to encourage, through the assessment of reduced civil penalties, delinquent plan administrators to voluntarily comply with their annual reporting obligations under Title I of Employee Retirement Income Security Act of 1974. For additional information, see related notice published at 72 FR 72761 on December 21, 2007.

Agency: Employee Benefits Security Administration.

Type of Review: Extension without change of currently approved collection.

Title: Prohibited Transaction Class Exemption 96-62, Process for Expedited Approval of an Exemption for Prohibited Transaction.

OMB Number: 1210-0098.

Affected Public: Private Sector: Business or other for-profits.

Total Estimated Number of Respondents: 50.

Total Estimated Annual Burden Hours: 62.

Total Estimated Annual Costs Burden: $67,675.

Description: Prohibited Transaction Class Exemption 96-62 permits a plan to seek approval on an accelerated basis of otherwise prohibited transactions under sections 406 and 407(a) of the Employee Retirement Income Security Act of 1974 by providing the Department and interested persons with information demonstrating the transaction is substantially similar to at least two individual exemptions previously granted and presents little, if any, opportunity for abuse or risk of loss to a plans' participants and beneficiaries. The third-party disclosure and reporting requirements contained in the Exemption are designed to help protect the interests of plan participants and beneficiaries from potential abuse when a fiduciary exercises the Exemption. For additional information, see related notice published at 72 FR 72764 on December 21, 2007.

Agency: Employee Benefits Security Administration.

Type of Review: Extension without change of currently approved collection.

Title: PTE 98-54 Relating to Certain Employee Benefit Plan Foreign Exchange Transactions Executed Pursuant to Standing Instructions.

OMB Number: 1210-0111.

Affected Public: Private Sector: Business or other for-profits.

Total Estimated Number of Respondents: 35.

Total Estimated Annual Burden Hours: 4,200.

Total Estimated Annual Costs Burden: $0.

Description: Prohibited Transaction Class Exemption 98-54 permits certain foreign exchange transactions between employee benefit plans and certain banks and broker-dealers which are parties in interest with respect to such plans, pursuant to standing instructions. Without the exemption, certain aspects of these transactions might be prohibited by section 406 of the Employee Retirement Income Security Act of 1974. The third-party disclosure requirements contained in the Exemption are designed to help protect the interests of plan participants and beneficiaries from potential abuse when a fiduciary exercises the Exemption. For additional information, see related notice published at 72 FR 72765 on December 21, 2007.

Darrin A. King,
Acting Departmental Clearance Officer.

[FR Doc. E8-4885 Filed 3-11-08; 8:45 am]

BILLING CODE 4510-29-P